DEPARTMENT OF EDUCATION

Submission of OMB Review; Comment Request

AGENCY: Department of Education.

ACTION: Correction Notice.

SUMMARY: On December 29, 2000, a 60-day notice inviting comment from the public was inadvertently published for the European Community/United States of America Cooperation Program in Higher Education and Vocational Education and Training in the Federal Register (65 FR 82985) dated December 29, 2000. This information collection is being submitted under the Streamlined Clearance Process for Discretionary Grant Information Collection (1890-0001). Therefore, this notice amends the public comment period for this program to 30 days. The Leader, Regulatory Information Management Group, Office of the Chief Information Officer, hereby issues a correction notice on the submission for OMB review as required by the Paperwork Reduction Act of 1995. Since an incorrect public notice was published on December 29, the Department of Education is correcting the end date to the 30 days as required for discretionary grants instead of 60 days.

DATES: Interested persons are invited to submit comments on or before January 26, 2001.

ADDRESSES: Written comment should be addressed to the Office of Information and Regulatory Affairs, Attention: Lauren Wittenberg, Acting Desk Officer, Department of Education, Office of Management and Budget, 725 17th Street, NW, Room 10235, New Executive Office Building, Washington, DC 20503. Requests for copies of the proposed information collection request should be addressed to Vivian Reese, Department of Education, 400 Maryland Avenue, SW, Room 5624, Regional Office Building 3, Washington, DC 20202-4651 or should be electronically mailed to the internet address vivian_reese@ed.gov or should be faxed to 202-708-9346.

FOR FURTHER INFORMATION CONTACT: Joseph Schubart (202) 708-9266.

Dated: January 2, 2001.
John Tressler,
Leader, Regulatory Information Management, Office of the Chief Information Officer.

[FR Doc. 01-380 Filed 1-4-01; 8:45 am]

BILLING CODE 4000-01-P